DEPARTMENT OF HEALTH AND HUMAN SERVICES

National Institutes of Health

Fogarty International Center 2013 Strategic Plan

SUMMARY: The Fogarty International Center (FIC), National Institutes of Health (NIH) is updating its strategic plan. To anticipate and set priorities for global health research and research training, FIC requests input from scientists, the general public, and interested parties. The goal of this strategic planning process is to identify current and future needs and directions for global health research and research training. The existing FIC strategic plan can be viewed at: http://www.fic.nih.gov/About/Pages/Strategic-Plan.aspx.

DATES: Submit responses to the Division of International Science Policy, Planning and Evaluation, FIC on or before July 6, 2012.

Address and for Further Information Contact: Please submit written responses to Dr. Rachel Sturke, Evaluation Officer, Division of International Science Policy, Planning and Evaluation, Fogarty International Center, National Institutes of Health. Dr. Sturke may also be reached by email at FICStratPlan@mail.nih.gov, or through our web address: http://www.fic.nih.gov.

SUPPLEMENTARY INFORMATION: The Fogarty International Center is dedicated to advancing the mission of the National Institutes of Health by supporting and facilitating global health research conducted by U.S. and international investigators, building partnerships between health research institutions in the U.S. and abroad, and training the next generation of scientists to address global health needs.

The Fogarty International Center supports basic, clinical and applied research and training for U.S. and foreign investigators working in the developing world. Since its formation more than 40 years ago, Fogarty has served as a bridge between NIH and the greater global health community—facilitating exchanges among investigators, providing training opportunities and supporting promising research initiatives in developing countries.

In order to inform its 2013 Strategic Plan, FIC specifically, but not exclusively, requests comments on the following topics:

(1) What are specific gaps, needs, and opportunities in global health research that should be addressed by Fogarty in the next 5-10 years?

(2) What are specific gaps, needs, and opportunities in global health research training that should be addressed by Fogarty in the next 5-10 years?

(3) Are there specific gaps and/or opportunities related to the use of information and communication technologies (ICT), mobile technologies (mHealth), and distance learning in research and research training?

(4) What are specific gaps, needs, and opportunities related to research and research training in chronic, non-communicable diseases?

(5) What are specific gaps, needs, and opportunities related to research and research training in infectious diseases?

(6) How can Fogarty strengthen the research-enabling environment at research institutions in low and middle income countries?

(7) How can Fogarty encourage more collaboration in research and research training among institutions in low and middle income countries?

Dated: May 23, 2012.
Dexter Collins,
Executive Officer, Fogarty International Center, National Institutes of Health.

[FR Doc. 2012-14465 Filed 6-12-12; 8:45 am]

BILLING CODE 4140-01-P